DEPARTMENT OF STATE

[Public Notice: 11485]

Notice of Department of State Sanctions Actions on Hong Kong Normalization

SUMMARY: The Secretary of State has imposed sanctions on seven individuals pursuant to Executive Order 13936, the President's Executive Order on Hong Kong Normalization.

DATES: The Secretary of State's determination regarding the seven individuals identified in the SUPPLEMENTARY INFORMATION section was effective on July 16, 2021.

FOR FURTHER INFORMATION CONTACT: Taylor Ruggles, Director, Office of Economic Sanctions Policy and Implementation, Bureau of Economic and Business Affairs, Department of State, Washington, DC 20520, tel.: (202) 647-7677, email: RugglesTV@state.gov.

SUPPLEMENTARY INFORMATION: Pursuant to Section 4 of Executive Order (E.O.) 13936, the Secretary of State, in consultation with the Secretary of the Treasury, or the Secretary of the Treasury, in consultation with the Secretary of State, may authorize the imposition of sanctions blocking all property or interests in property that are in the United States, that hereafter come within the United States, or that are in or hereafter come within the possession or control of any United States person, of any foreign person upon determining that the person met any criteria set forth in section 4 of E.O. 13936.

The Secretary of State has determined, pursuant to section 4(a)(iii)(A) of E.O. 13936, that Chen Dong, Yang Jianping, Qiu Hong, Lu Xinning, Tan Tieniu, He Jing, and Yin Zonghua are or have been leaders or officials of an entity, including any government entity, that has engaged in, or whose members have engaged in, actions or policies that threaten the peace, security, stability, or autonomy of Hong Kong. These individuals have been added to the Specially Designated Nationals and Blocked Persons List. All property and interests in property subject to U.S. jurisdiction of these individuals are blocked, and U.S. persons are generally prohibited from engaging in transactions with them.

Peter Haas,
Acting Assistant Secretary, Bureau of Economic and Business Affairs, Department of State.

[FR Doc. 2021-16530 Filed 8-2-21; 8:45 am]

BILLING CODE 4710-AE-P